SURFACE TRANSPORTATION BOARD

[Docket No. AB 303 (Sub-No. 48X)]

Wisconsin Central Ltd.—Discontinuance of Service Exemption—in Waupaca County, Wis

Wisconsin Central Ltd. (WCL) has filed a verified notice of exemption under 49 CFR pt. 1152 subpart F—Exempt Abandonments and Discontinuances of Service to discontinue service over approximately 10.3 miles of rail line extending from milepost 40.0 in New London, Wis. to milepost 50.3 in Manawa, Wis., Waupaca County, Wis. (the Line). The Line traverses United States Postal Service Zip Code 54949 and 54961.

WCL has certified that: (1) No local traffic has moved over the Line for at least two years; (2) no overhead traffic on the Line needs to be rerouted; (3) no formal complaint filed by a user of a rail service on the Line (or by a state or local government entity acting on behalf of such user) regarding cessation of service over the Line is pending either with the Surface Transportation Board (Board) or with any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective September 30, 2017, unless stayed pending reconsideration. Petitions to stay that do not involve environmental issues and formal expressions of intent to file an OFA to subsidize continued rail service under 49 CFR 1152.27(c)(2),¹ must be filed by September 8, 2017.² Petitions for reconsideration must be filed by September 30, 2017, with the Surface Transportation Board, 395 E Street SW., Washington, DC 20423-0001.

¹ Each OFA must be accompanied by the filing fee, which currently is set at $1,700. See 49 CFR 1002.2(f)(25). Effective on September 1, 2017, the fee will increase to $1,800. See Regulations Governing Fees for Servs. Performed in Connection with Licensing & Related Servs.—2017 Update, EP 542 (Sub-No. 25) (STB served July 28, 2017).

² Because this is a discontinuance proceeding and not an abandonment, trail use/rail banking and public use conditions are not appropriate. Because there will be an environmental review during abandonment, this discontinuance does not require environmental review.

A copy of any petition filed with Board should be sent to WCL's representative, Audrey L. Brodrick, Fletcher & Sippell LLC, 29 North Wacker Drive, Suite 920, Chicago, IL 60606.

If the verified notice contains false or misleading information, the exemption is void ab initio.

Board decisions and notices are available on our Web site at “WWW.STB.GOV.”

Decided: August 28, 2017.
By the Board, Rachel D. Campbell, Director, Office of Proceedings.
Marline Simeon,
Clearance Clerk.

[FR Doc. 2017-18483 Filed 8-30-17; 8:45 am]

BILLING CODE 4915-01-P